DEPARTMENT OF TRANSPORTATION

Maritime Administration

Meeting of the Marine Transportation System National Advisory Council

AGENCY: Maritime Administration.

ACTION: Notice of Public Meeting.

SUMMARY: The Maritime Administration (MarAd) announces that the Marine Transportation System National Advisory Council (MTSNAC) will hold a meeting on October 12-13, 2011 to assess its priorities for the coming year, and to discuss other issues of importance to the Marine Transportation System. During the two day meeting, a public comment period is scheduled for 1 p.m.-1:30 p.m. on Wednesday, October 12, 2011. Members of the public who would like to speak are asked to contact Richard J. Lolich by October 5, 2011. To provide time for as many people to speak as possible, speaking time for each individual will be limited to three minutes. We hope to be able to accommodate everyone who would like to speak at the meeting, but if there are more interested participants than time available, we will limit participants in order of date and time of registration. Commenters will be placed on the agenda in the order in which notifications are received. If time allows, time will be allotted to those attending the meeting to speak, even if they had not previously registered to speak. Copies of oral comments must be submitted in writing at the meeting. Additional written comments are welcome and must be filed with Richard Lolich by October 14, 2011. [See also FOR FURTHER INFORMATION CONTACT]

DATES: The meeting will be held on Wednesday, October 12, 2011, from 9 a.m. to 5 p.m. and Thursday, October 13, 2011, from 9 a.m. to 12 p.m.

ADDRESSES: The meeting will be held in the Media Center at the U.S. Department of Transportation Headquarters, 1200 New Jersey Ave., SE., Washington, DC 20590.

FOR FURTHER INFORMATION CONTACT: Richard Lolich, (202) 366-0704; Maritime Administration, MAR-540, Room W21-310, 1200 New Jersey Ave., SE., Washington, DC 20590-0001; richard.lolich@dot.gov.

Authority: 5 U.S.C. App 2, Sec. 9(a)(2); 41 CFR 101-6. 1005; DOT Order 1120.3B)

By Order of the Maritime Administrator.
Date: September 22, 2011.
Christine Gurland,
Acting Secretary, Maritime Administration.

[FR Doc. 2011-24773 Filed 9-26-11; 8:45 am]

BILLING CODE 4910-81-P